INTERNATIONAL TRADE COMMISSION

[Investigation No. 731-TA-1396 (Final)]

Forged Steel Fittings From Taiwan

Determination

On the basis of the record ¹ developed in the subject investigation, the United States International Trade Commission (“Commission”) determines, pursuant to the Tariff Act of 1930 (“the Act”), that an industry in the United States is materially injured by reason of imports of forged steel fittings from Taiwan that have been found by the U.S. Department of Commerce (“Commerce”) to be sold in the United States at less than fair value (“LTFV”).²

¹ The record is defined in sec. 207.2(f) of the Commission's Rules of Practice and Procedure (19 CFR 207.2(f)).

² Forged Steel Fittings From Taiwan: Final Determination of Sales at Less Than Fair Value, 83 FR 36519, July 30, 2018.

Background

The Commission instituted this investigation effective October 5, 2017, following receipt of a petition filed with the Commission and Commerce by Bonney Forge Corporation, Mount Union, Pennsylvania, and the United Steel, Paper and Forestry, Rubber, Manufacturing, Energy, Allied Industrial and Service Workers International Union, Pittsburgh, Pennsylvania. The Commission established a general schedule for the final phase of its investigations on forged steel fittings from China, India, and Taiwan ³ following notifications of preliminary determinations by Commerce that imports of forged steel fittings from China, Italy, and Taiwan were being sold at LTFV within the meaning of section 733(b) of the Act (19 U.S.C. 1673b(b)).⁴ Notice of the scheduling of the final phase of the Commission's investigation and of a public hearing to be held in connection therewith was given by posting copies of the notice in the Office of the Secretary, U.S. International Trade Commission, Washington, DC, and by publishing the notice in the Federal Register of June 4, 2018, (83 FR 25715, June 4, 2018). The hearing was held in Washington, DC, on August 2, 2018, and all persons who requested the opportunity were permitted to appear in person or by counsel.

³ Forged Steel Fittings From China, India, and Taiwan: Scheduling of the Final Phase of Countervailing Duty and Antidumping Duty Investigations, 83 FR 25715, June 4, 2018.

⁴ Forged Steel Fittings From the People's Republic of China: Affirmative Preliminary Determination of Sales at Less Than Fair Value, Postponement of Final Determination and Extension of Provisional Measures, 83 FR 22948, May 17, 2018; Forged Steel Fittings From Italy: Preliminary Affirmative Determination of Sales at Less Than Fair Value, Postponement of Final Determination and Extension of Provisional Measures, 83 FR 22954, May 17, 2018; and Forged Steel Fittings From Taiwan: Affirmative Preliminary Determination of Sales at Less Than Fair Value, 83 FR 22957, May 17, 2018; see also Forged Steel Fittings From the People's Republic of China: Preliminary Affirmative Countervailing Duty Determination and Alignment of Final Determination With Final Antidumping Duty Determination, 83 FR 11170, March 14, 2018.

The Commission made this determination pursuant to section 735(b) of the Act (19 U.S.C. 1673d(b)). It completed and filed its determination in this investigation on September 14, 2018. The views of the Commission are contained in USITC Publication 4823 (September 2018), entitled Forged Steel Fittings from Taiwan: Investigation No. 731-TA-1396 (Final).

By order of the Commission.
Issued: September 14, 2018.
Lisa Barton,
Secretary to the Commission.

[FR Doc. 2018-20441 Filed 9-19-18; 8:45 am]

BILLING CODE 7020-02-P